DEPARTMENT OF TRANSPORTATION

Federal Aviation Administration

14 CFR Part 39

[Docket No. FAA-2005-20755; Directorate Identifier 2004-NM-244-AD]

RIN 2120-AA64

Airworthiness Directives; Airbus Model A321 Series Airplanes

AGENCY: Federal Aviation Administration (FAA), Department of Transportation (DOT).

ACTION: Notice of proposed rulemaking (NPRM).

SUMMARY: The FAA proposes to supersede an existing airworthiness directive (AD) that applies to all Airbus Model A321 series airplanes. The existing AD currently requires revising the Limitations section of the airplane flight manual to include an instruction to use Flap 3 for landing when performing an approach in conditions of moderate to severe icing, significant crosswind (i.e., crosswinds greater than 20 knots, gust included), or moderate to severe turbulence. This proposed AD would require replacing existing elevator and aileron computers (ELAC) with ELACs having either L83 or L91 software, as applicable, which would terminate the requirements of the existing AD. This proposed AD would also require a related concurrent action. In addition, this proposed AD would revise the applicability by removing airplanes with these ELAC software standards incorporated in production. This proposed AD is prompted by issuance of mandatory continuing airworthiness information by a civil airworthiness authority. We are proposing this AD to prevent roll oscillations during approach and landing in certain icing, crosswind, and turbulent conditions, which could result in reduced controllability of the airplane.

DATES: We must receive comments on this proposed AD by April 29, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

For service information identified in this proposed AD, contact Airbus, 1 Rond Point Maurice Bellonte, 31707 Blagnac Cedex, France.

You can examine the contents of this AD docket on the Internet at http://dms.dot.gov, or in person at the Docket Management Facility, U.S. Department of Transportation, 400 Seventh Street SW., room PL-401, on the plaza level of the Nassif Building, Washington, DC. This docket number is FAA-2005-20755; the directorate identifier for this docket is 2004-NM-244-AD.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION:

Comments Invited

We invite you to submit any relevant written data, views, or arguments regarding this proposed AD. Send your comments to an address listed under ADDRESSES. Include “Docket No. FAA-2005-20755; Directorate Identifier 2004-NM-244-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of our docket web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

On January 28, 2004, we issued AD 2004-03-02, amendment 39-13446 (69 FR 5007, February 3, 2004), for all Airbus Model A321 series airplanes. That AD requires revising the Limitations section of the airplane flight manual to include an instruction to use Flap 3 for landing when performing an approach in conditions of moderate to severe icing, significant crosswind (i.e., crosswinds greater than 20 knots, gust included), or moderate to severe turbulence. That AD was prompted by reports indicating that pilots of two separate Model A321 series airplanes encountered lateral handling difficulties, which led to roll oscillations. We issued that AD to prevent roll oscillations during approach and landing in certain icing, crosswind, and turbulent conditions, which could result in reduced controllability of the airplane.

Actions Since Existing AD Was Issued

Since we issued AD 2004-03-02, the Direction Générale de l'Aviation Civile (DGAC), which is the airworthiness authority for France, issued French airworthiness directive F-2004-147, dated August 18, 2004. The French airworthiness directive mandates the installation of elevator aileron computers (ELAC) having L83 or L91 software, as applicable, and cancels the revision to the Limitations section of the airplane flight manual. The French airworthiness directive also revises the applicability by removing airplanes on which Airbus Modification 34043 was installed in production.

Relevant Service Information

Airbus has issued Service Bulletins A320-27-1151, including Appendix 01, dated March 9, 2004; and A320-27-1152, including Appendix 01, dated June 4, 2004. Service Bulletin A320-27-1151 describes procedures for replacing existing ELACs with ELACs having L83 software, and Service Bulletin A320-27-1152 describes procedures for replacing existing ELACs with ELACs having L91 software. Accomplishing the actions specified in the service information is intended to adequately address the unsafe condition. The DGAC mandated the service information and issued French airworthiness directive F-2004-147, dated August 18, 2004, to ensure the continued airworthiness of these airplanes in France.

Airbus Service Bulletin A320-27-1151 refers to Thales Service Bulletin 394512-27-026, dated March 5, 2004, as an additional source of service information for installing ELAC L83 software. Airbus Service Bulletin A320-27-1152 refers to Thales Service Bulletin 394512B-27-010, dated May 24, 2004, as an additional source of service information for installing ELAC L91 software.

Concurrent Service Bulletin

Airbus Service Bulletins A320-27-1151 and A320-27-1152 recommend prior or concurrent accomplishment of Airbus Service Bulletin A320-27-1135, Revision 02, dated April 18, 2002. Airbus Service Bulletin A320-27-1135, Revision 02, describes procedures for installing ELACs having L81 software. Airbus Service Bulletin A320-27-1135, Revision 02, refers to Thales Service Bulletins 394512-27-022, Revision 01, dated June 4, 2004; and 394512B-27-002, Revision 01, dated July 16, 2002; as additional sources of service information for installing L81 software in the ELACs.

FAA's Determination and Requirements of the Proposed AD

This airplane model is manufactured in France and is type certificated for operation in the United States under the provisions of § 21.29 of the Federal Aviation Regulations (14 CFR 21.29) and the applicable bilateral airworthiness agreement. According to this bilateral airworthiness agreement, the DGAC has kept the FAA informed of the situation described above. We have examined the DGAC's findings, evaluated all pertinent information, and determined that AD action is necessary for airplanes of this type design that are certificated for operation in the United States. This proposed AD would supersede AD 2004-03-02. This proposed AD would continue to require revising the airplane flight manual to specify procedures for landing under certain conditions of icing, significant crosswind, or moderate to severe turbulence, until the new requirements of this AD have been accomplished. This proposed AD would also require replacing existing ELAC computers with ELAC computers having L83 or L91 software, as applicable, which would terminate the requirements of the existing AD. This proposed AD would also require a related concurrent action. In addition, this proposed AD would revise the applicability by removing airplanes with these ELAC software standards incorporated during production. The actions would be required to be accomplished in accordance with the service information described previously.

Clarification of Terminology

Concurrent Airbus Service Bulletin A320-27-1135 refers to “ELAC standard L81.” This AD uses the term “L81 software.”

Change to Existing AD

This proposed AD would retain all requirements of AD 2004-03-02. Since AD 2004-03-02 was issued, the AD format has been revised, and certain paragraphs have been rearranged. As a result, the corresponding paragraph identifier has changed in this proposed AD, as listed in the following table:

Revised Paragraph Identifier
Requirement in AD 2004-03-02 | Corresponding requirement in this proposed AD
paragraph (a) | paragraph (f).

Costs of Compliance

The following table provides the estimated costs for U.S. operators to comply with this proposed AD.

Action | Work hour | Average labor rate per hour | Parts | Cost per airplane | Number of U.S.-registered airplanes | Fleet cost
Estimated Costs
AFM revision (required by AD 2004-03-02) | 1 | $65 | None | $65 | 29 | $1,885
Installation of ELAC having L83 or L91 software (new proposed action) | 1 | 65 | No charge | 65 | 29 | 1,885
Estimated Concurrent Service Bulletin Costs
Installation of ELAC having L81 software | 1 | 65 | No charge | 65 | 29 | 1,885

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-13446 (69 FR 5007, February 3, 2004) and adding the following new airworthiness directive (AD):

Airbus: Docket No. FAA-2005-20755; Directorate Identifier 2004-NM-244-AD.

Comments Due Date

(a) The Federal Aviation Administration must receive comments on this AD action by April 29, 2005.

Affected ADs

(b) This AD supersedes AD 2004-03-02, amendment 39-13446 (69 FR 5007, February 3, 2004).

Applicability

(c) This AD applies to Airbus Model A321 series airplanes, certificated in any category, except those with Airbus Modification 34043 installed in production.

Unsafe Condition

(d) This AD was prompted by issuance of mandatory continuing airworthiness information by a civil airworthiness authority. We are issuing this AD to prevent roll oscillations during approach and landing in certain icing, crosswind, and turbulent conditions, which could result in reduced controllability of the airplane.

Compliance

(e) You are responsible for having the actions required by this AD performed within the compliance times specified, unless the actions have already been done.

Restatement of Requirements of AD 2004-03-02

Airplane Flight Manual Revision

(f) Within 10 days after February 18, 2004 (the effective date of AD 2004-03-02), revise the Limitations section of the airplane flight manual (AFM) to include the following statement. This may be done by inserting a copy of this AD in the AFM.

“A321 APPROACH AND LANDING (ROLL CONTROL) When moderate to severe icing conditions, or significant cross wind (i.e., crosswinds greater than 20 knots, gust included), or moderate to severe turbulence are anticipated:

Use FLAP 3 for landing.”

Note 1: When a statement identical to that in paragraph (f) of this AD has been included in the general revisions of the AFM, the general revisions may be inserted into the AFM, and the copy of this AD may be removed from the AFM.

New Requirements of This AD

Installation of Elevator Aileron Computers (ELAC) Having L83 or L91 Software

(g) Within 16 months after the effective date of this AD: Replace existing ELACs with ELACs having L83 software, by accomplishing all of the actions specified in the Accomplishment Instructions of Airbus Service Bulletin A320-27-1151, including Appendix 01, dated March 9, 2004; or with ELACs having L91 software, by accomplishing all of the actions specified in the Accomplishment Instructions of Airbus Service Bulletin A320-27-1152, including Appendix 01, dated June 4, 2004; as applicable. After accomplishing the ELAC replacements, remove the AFM revision required by paragraph (f) of this AD. Accomplishing the requirements of this paragraph terminates the requirements of paragraph (f) of this AD.

Note 2: Airbus Service Bulletin A320-27-1151 refers to Thales Service Bulletin 394512-27-026, dated March 5, 2004, as an additional source of service information for installing ELAC L83 software. Airbus Service Bulletin A320-27-1152 refers to Thales Service Bulletin 394512B-27-010, dated May 24, 2004, as an additional source of service information for installing ELAC L91 software.

Concurrent Service Bulletin

(h) Prior to doing the requirements of paragraph (g) of this AD: Install ELACs having L81 software in accordance with the Accomplishment Instructions of Airbus Service Bulletin A320-27-1135, Revision 02, dated April 18, 2002.

Previously Accomplished Actions in Concurrent Service Bulletin

(i) Installation of ELACs having L81 software in accordance with the Accomplishment Instructions of Airbus Service Bulletin A320-27-1135, dated June 29, 2001; or Service Bulletin A320-27-1135, Revision 01, dated August 31, 2001; is acceptable for compliance with the requirements of paragraph (h) of this AD.

Part Installation

(j) As of the effective date of this AD, no person may install on any airplane an ELAC, part number 3945122506, 3945123506, 3945128102, or 3945128103.

Alternative Methods of Compliance (AMOCs)

(k)(1) The Manager, International Branch, Transport Airplane Directorate, FAA, has the authority to approve AMOCs for this AD, if requested in accordance with the procedures found in 14 CFR 39.19.

(2) Alternative methods of compliance, approved previously in accordance with AD 2004-03-02, are approved as alternative methods of compliance with the corresponding requirements of this AD.

Related Information

(l) French airworthiness directive F-2004-147, dated August 18, 2004, also addresses the subject of this AD.

Issued in Renton, Washington, on March 22, 2005.
Ali Bahrami,
Manager, Transport Airplane Directorate, Aircraft Certification Service.

[FR Doc. 05-6243 Filed 3-29-05; 8:45 am]

BILLING CODE 4910-13-P